DEPARTMENT OF THE INTERIOR

Revision to the Outer Continental Shelf (OCS) Policy Committee

AGENCY: Minerals Management Service, Interior.

ACTION: Revision to the Outer Continental Shelf (OCS) Policy Committee Under the Outer Continental Shelf Lands Act.

SUMMARY: Following consultation with the General Services Administration, notice is hereby given that the Secretary of the Interior has revised the OCS Policy Committee charter.

FOR FURTHER INFORMATION CONTACT: Jeryne Bryant, Minerals Management Service, Offshore Minerals Management, Herndon, Virginia 20170-4817, telephone (703) 787-1211, jeryne.bryant@mms.gov.

SUPPLEMENTARY INFORMATION: This notice is published in accordance with Section 9(a) of the Federal Advisory Committee Act of 1972 (Pub. L. 92-643). The OCS Policy Committee will provide advice to the Secretary of the Interior, through the Director of the Minerals Management Service, related to the discretionary functions of the Bureau under the Outer Continental Shelf Lands Act and related statutes. The Committee will review and comment on all aspects of leasing, exploration, development and protection of OCS resources and provide a forum to convey views representative of coastal states, local government, offshore mineral industries, environmental community, and other users of the offshore and the interested public. The charter was revised to include two additional members representing energy consumers and to add the Assistant Secretary, Land and Minerals Management as an ex officio member of the Committee.

Certification

I hereby certify that the OCS Policy Committee is in the public interest in connection with the performance of duties imposed on the Department of the Interior by the OCS, as amended (43 U.S.C. 1331 et seq.).

Dated: March 18, 2005.
Gale A. Norton,
Secretary of the Interior.

[FR Doc. 05-6169 Filed 3-28-05; 8:45 am]

BILLING CODE 4310-MR-P